DEPARTMENT OF COMMERCE

Foreign-Trade Zones Board

[B-62-2018]

Foreign-Trade Zone (FTZ) 294—Western Kentucky; Notification of Proposed Production Activity; Mayfield Consumer Products (Candles); Mayfield and Hickory, Kentucky

The Paducah McCracken County Riverport Authority, grantee of FTZ 294, submitted a notification of proposed production activity to the FTZ Board on behalf of Mayfield Consumer Products (MCP), located in Mayfield and Hickory, Kentucky. The notification conforming to the requirements of the regulations of the FTZ Board (15 CFR 400.22) was received on October 10, 2018.

The applicant has submitted a separate application for FTZ designation at the MCP facility under FTZ 294. The MCP facility is used for the production of candles. Pursuant to 15 CFR 400.14(b), FTZ activity would be limited to the specific foreign-status materials and components and specific finished products described in the submitted notification (as described below) and subsequently authorized by the FTZ Board.

Production under FTZ procedures could exempt MCP from customs duty payments on the foreign-status components used in export production. On its domestic sales, for the foreign-status materials/components noted below, MCP would be able to choose the duty rates during customs entry procedures that apply to filled jar candles (duty-free). MCP would be able to avoid duty on foreign-status components which become scrap/waste. Customs duties also could possibly be deferred or reduced on foreign-status production equipment.

The components and materials sourced from abroad include: Glass jars; tin lids; cardboard boxes; and, wood pulp inserts (duty rate ranges from duty-free to 6%). The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary at the address below. The closing period for their receipt is November 26, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Elizabeth Whiteman at Elizabeth.Whiteman@trade.gov or (202) 482-0473.

Dated: October 11, 2018.
Andrew McGilvray,
Executive Secretary.

[FR Doc. 2018-22584 Filed 10-16-18; 8:45 am]

BILLING CODE 3510-DS-P